DEPARTMENT OF HOUSING AND URBAN DEVELOPMENT

[Docket No. FR-7050-N-21; OMB Control No. 2577-0208]

30-Day Notice of Proposed Information Collection: HOPE VI Implementation and HOPE VI Main Street Programs: Funding and Program Data Collection

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: June 17, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, QDAM, Department of Housing and Urban Development, 451 7th Street SW, Room 4176, Washington, DC 20410-5000; telephone 202-402-3400 (this is not a toll-free number). Persons with hearing or speech impairments may access this number via TTY by calling the Federal Information Relay Service at (800) 877-8339. Copies of available documents submitted to OMB may be obtained from Ms. Pollard.

SUPPLEMENTARY INFORMATION: This notice informs the public that HUD is seeking approval from OMB for the information collection described in Section A.

The Federal Register notice that solicited public comment on the information collection for a period of 60 days was published on March 9, 2022 at 87 FR 13305.

A. Overview of Information Collection

Title of Proposal: HOPE VI Implementation and HOPE VI Main Street Programs.

OMB Control Number: 2577-0208.

Type of Request: Extension of a currently approved collection.

Form Number: HUD-52825-A, HUD-52861, HUD-53001-A.

Description of the need for the information and proposed use: Section 24 of the U.S. Housing Act of 1937, as added by Section 535 of the Quality Housing and Work Responsibility Act of 1998 (Pub. L. 105-276, 112 Stat. 2461, approved October 21, 1998) and revised by the HOPE VI Program Reauthorization and Small Community Main Street Rejuvenation and Housing Act of 2003 (Pub. L. 108-186, 117 Stat. 2685, approved December 16, 2003), established the HOPE VI program for the purpose of making assistance available on a competitive basis to public housing agencies (PHAs) to improve the living environment for public housing residents of severely distressed public housing projects (or portions thereof); and, beginning in Fiscal Year 2004, to rejuvenate the traditional or historic downtown areas of smaller units of local government. Funds were appropriated for competitive HOPE VI Implementation Notices of Funding Availability (NOFAs) through Fiscal Year 2011.

Remaining HOPE VI Implementation grants account for most of the burden. However, HOPE VI funds are no longer being appropriated. HOPE VI Main Street funds are being funded through the Choice Neighborhoods Initiative appropriations. Currently, there are approximately 35 HOPE VI Implementation grants that remain active and must be monitored by HUD. HUD publishes competitive bi-annual NOFAs for the HOPE VI Main Street program and monitors grants that have been awarded through those NOFAs. These information collections are required in connection with the monitoring of the remaining active HOPE VI Implementation grants and the bi-annual publication on http://www.grants.gov of HOPE VI Main Street NOFAs, contingent upon available funding and authorization, which announce the availability of funds provided in annual appropriations for Section 24 of the Housing Act of 1937, as amended.

Eligible units of local government interested in obtaining HOPE VI Main Street grants are required to submit applications to HUD, as explained in each NOFA. The information collection conducted in the applications enables HUD to conduct a comprehensive, merit-based selection process in order to identify and select the applications to receive funding. With the use of HUD-prescribed forms, the information collection provides HUD with sufficient information to approve or disapprove applications.

Applicants that are awarded HOPE VI Implementations grants are required to report on a quarterly basis on their Implementation grant revitalization activities. HOPE VI Implementation grantees do this by sending emails to the HUD grant managers. HUD reviews and evaluates the collected information and uses it as a primary tool with which to monitor the status of HOPE VI projects and programs.

Members of affected public: Public Housing Agencies, Units of Local Government.

Estimation of the total number of hours needed to prepare the information collection including number of respondents, frequency of response, and hours of response:

Collection | Respondents | Frequency per annum | Responses per annum | Burden per response | Burden per annum | Hourly cost per response | Annual cost
HOPE VI Main Street Application:
Main Street NOFA Narrative Exhibits | 5 | 0.5 | 2.5 | 80 | 200 | ¹ $58 | $11,600
Main Street NOFA 52861 Application Data Sheet | 5 | 0.5 | 2.5 | 15 | 37.5 | 58 | 2,175
Main Street NOFA Project Area Map | 5 | 0.5 | 2.5 | 1 | 2.5 | 58 | 145
Main Street NOFA Program Schedule | 5 | 0.5 | 2.5 | 4 | 10 | 58 | 580
Main Street NOFA Photographs of site | 5 | 0.5 | 2.5 | 5 | 12.5 | 58 | 725
Main Street NOFA Five-year Pro-forma | 5 | 0.5 | 2.5 | 5 | 12.5 | 58 | 725
Main Street NOFA Site Plan and Unit Layout | 5 | 0.5 | 2.5 | 10 | 25 | 58 | 1,450
Subtotal | 35 |  | 17.5 |  | 300 |  | 17,400
Non-NOFA Collections:
Quarterly Reporting | 35 | 4 | 140 | 1 | 140 | 58 | 8,120
52825-A HOPE VI Budget updates | 40 | 1 | 40 | 1 | 40 | 58 | 2,320
53001-A Actual HOPE VI Cost Certificate | 55 | 1 | 55 | 0.5 | 27.5 | 58 | 1,595
Subtotal | 130 |  | 235 |  | 207.5 |  | 12,035
Total Burden | 165 |  | 252.5 |  | 507.5 |  | 29,435

B. Solicitation of Public Comment

¹ Staff filling out these forms typically hold positions equivalent to a GS-14. Therefore, the hourly basic rate used for this calculation is the 2022 hourly rate for a GS-14 Step 9.

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

Authority: Section 3507 of the Paperwork Reduction Act of 1995, 44 U.S.C. Chapter 35.

Colette Pollard,
Department Reports Management Officer, Office of Policy Development and Research, Chief Data Officer.

[FR Doc. 2022-10687 Filed 5-17-22; 8:45 am]

BILLING CODE 4210-67-P